SECURITIES AND EXCHANGE COMMISSION

[Release No. IC-27771]

Notice of Applications for Deregistration Under Section 8(f) of the Investment Company Act of 1940

March 30, 2007.

The following is a notice of applications for deregistration under section 8(f) of the Investment Company Act of 1940 for the month of March 2007. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on April 25, 2007, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

The Preferred Group of Mutual Funds [File No. 811-6602]

Summary: Applicant seeks an order declaring that it has ceased to be an investment company. On June 19, 2006, each of applicant's series transferred its assets to the following corresponding funds, based on net asset value: T. Rowe Price Value Fund, Inc., T. Rowe Price Growth Stock Fund, Inc., T. Rowe Price Mid-Cap Growth Fund, Inc., T. Rowe Price New Horizons Fund, Inc., T. Rowe Price Capital Appreciation Fund, T. Rowe Price International Funds, Inc., T. Rowe Price Short-Term Bond Fund, Inc., T. Rowe Price New Income Fund, Inc. and T. Rowe Price Summit Funds, Inc. Expenses of approximately $490,000 incurred in connection with the reorganization were paid by Caterpillar Investment Management Ltd., applicant's investment adviser.

Filing Dates: The application was filed on July 20, 2006, and amended on October 30, 2006, January 12, 2007 and March 23, 2007.

Applicant's Address: 411 Hamilton Blvd., Suite 1200, Peroria, IL 61602.

AIM Floating Rate Fund [File No. 811-9797]

Summary: Applicant, a closed-end investment company, seeks an order declaring that it has ceased to be an investment company. On April 13, 2006, applicant transferred its assets to AIM Counselor Series Trust, based on net asset value. Expenses of $238,190 incurred in connection with the reorganization were paid by A I M Advisors, Inc., applicant's investment adviser.

Filing Date: The application was filed on February 23, 2007.

Applicant's Address: 11 Greenway Plaza, Suite 100, Houston, TX 77046-1173.

Pioneer Balanced Fund [File No. 811-1605]

Pioneer America Income Trust [File No. 811-5516]

Summary: Each applicant seeks an order declaring that it has ceased to be an investment company. On November 10, 2006, each applicant transferred its assets to corresponding series of Pioneer Series Trust IV, based on net asset values. Expenses of $80,698 and $81,259, respectively, incurred in connection with the reorganizations were paid by each applicant, the acquiring fund, and Pioneer Investment Management, Inc., investment adviser to both applicants and the acquiring fund.

Filing Date: The applications were filed on March 5, 2007.

Applicants' Address: 60 State St., Boston, MA 02109.

Pioneer Europe Select Fund [File No. 811-10111]

Summary: Applicant seeks an order declaring that it has ceased to be an investment company. On June 24, 2005, applicant transferred its assets to Pioneer Europe Select Equity Fund, based on net asset value. Expenses of $23,688 incurred in connection with the reorganization were paid by Pioneer Investment Management, Inc., investment adviser to both applicant and the acquiring fund.

Filing Date: The application was filed on March 5, 2007.

Applicant's Address: 60 State St., Boston, MA 02109.

Pioneer Small Company Fund [File No. 811-7339]

Summary: Applicant seeks an order declaring that it has ceased to be an investment company. On January 20, 2006, applicant transferred its assets to Pioneer Small Cap Value Fund, based on net asset value. Expenses of $87,781 incurred in connection with the reorganization were paid by applicant, the acquiring fund, and Pioneer Investment Management, Inc., investment adviser to both applicant and the acquiring fund.

Filing Date: The application was filed on March 5, 2007.

Applicant's Address: 60 State St., Boston, MA 02109.

BlackRock U.S. Government Fund [File No. 811-4077]

BlackRock Short Term U.S. Government Fund, Inc. [File No. 811-6304]

Summary: Each applicant seeks an order declaring that it has ceased to be an investment company. On October 16, 2006, each applicant transferred its assets to corresponding series of BlackRock Funds, based on net asset value. Expenses of $677,572 and $238,614, respectively, incurred in connection with the reorganizations were paid by BlackRock, Inc., the parent company of applicants' investment adviser.

Filing Dates: The applications were filed on January 17, 2007, and amended on March 22, 2007.

Applicants' Address: BlackRock, Inc., 800 Scudders Mill Rd., Plainsboro, NJ 08536.

BlackRock U.S. High Yield Fund, Inc. [File No. 811-8699]

Master U.S. High Yield Trust [File No. 811-10019]

Summary: Applicants, a feeder fund and a master fund, respectively, in a master-feeder structure, seek an order declaring that each has ceased to be an investment company. On October 16, 2006, each applicant transferred its assets to the High Yield Bond Portfolio, a series of BlackRock Funds, based on net asset value. Expenses of $237,309 and $757, respectively, incurred in connection with the reorganizations were paid by BlackRock, Inc., the parent company of applicants' investment adviser.

Filing Dates: The applications were filed on January 17, 2007. BlackRock U.S. High Yield Fund, Inc. amended its application on March 16, 2007 and March 22, 2007. Master U.S. High Yield Trust amended its application on March 22, 2007.

Applicants' Address: BlackRock, Inc., 800 Scudders Mill Rd., Plainsboro, NJ 08536.

Merrilll Lynch Disciplined Equity Fund, Inc. [File No. 811-9299]

Summary: Applicant seeks an order declaring that it has ceased to be an investment company. On August 28, 2006, applicant transferred its assets to BlackRock Large Cap Core Fund, a series of BlackRock Large Cap Series Fund, Inc., based on net asset value. Expenses of $341,376 incurred in connection with the reorganization were paid by Merrill Lynch & Co. Inc., the parent company of applicant's investment adviser.

Filing Dates: The application was filed on January 17, 2007, and amended on March 22, 2007.

Applicant's Address: BlackRock, Inc., 800 Scudders Mill Rd., Plainsboro, NJ 08536.

Pioneer Limited Maturity Bond Fund [File No. 811-6657]

Summary: Applicant seeks an order declaring that it has ceased to be an investment company. On September 28, 2001, applicant transferred its assets to Pioneer Bond Fund based on net asset value. Expenses of $76,677 incurred in connection with the reorganization were paid by Pioneer Investment Management, Inc., investment adviser for both applicant and the acquiring fund.

Filing Dates: The application was filed on July 2, 2002, and amended on March 5, 2007.

Applicant's Address: 60 State St., Boston, MA 02109.

ACM Government Opportunity Fund, Inc. [File No. 811-5595]

Summary: Applicant, a closed-end investment company, seeks an order declaring that it has ceased to be an investment company. On January 26, 2007, applicant transferred its assets to AllianceBernstein Income Fund, Inc., based on net asset value. Expenses of $336,500 incurred in connection with the reorganization were paid by applicant.

Filing Dates: The application was filed on February 27, 2007, and amended on March 21, 2007.

Applicant's Address: 1345 Avenue of the Americas, New York, NY 10105.

AIM Combination Stock & Bond Funds [File No. 811-8066]

Summary: Applicant seeks an order declaring that it has ceased to be an investment company. On July 18, 2005, applicant transferred its assets to corresponding portfolios of AIM Equity Funds and AIM Funds Group, based on net asset value. Expenses of $535,700 incurred in connection with the reorganization were paid by A I M Advisors, Inc., applicant's investment adviser.

Filing Date: The application was filed on February 23, 2007.

Applicant's Address: 11 Greenway Plaza, Suite 100, Houston, TX 77046-1173.

Sentinel Pennsylvania Tax-Free Trust [File No. 811-4781]

Summary: Applicant seeks an order declaring that it has ceased to be an investment company. On October 27, 2006, applicant transferred its assets to Federated Pennsylvania Municipal Income Fund, a series of Federated Municipal Securities Income Trust, based on net asset value. Expenses of $16,810 incurred in connection with the reorganization were paid by Sentinel Asset Management, Inc., applicant's investment adviser, and Federated Investors, Inc., the acquiring fund's investment adviser.

Filing Dates: The application was filed on February 13, 2007, and amended on March 13, 2007.

Applicant's Address: One National Life Drive, Montpelier, VT 05604.

Bailard Opportunity Fund Group, Inc. [File No. 811-6146]

Summary: Applicant seeks an order declaring that it has ceased to be an investment company. On April 3, 2006, applicant transferred its assets to corresponding series of HighMark Funds, based on net asset value. Expenses of $949,000 incurred in connection with the reorganization were paid by Bailard, Inc., applicant's investment adviser, and HighMark Capital Management, Inc., the acquiring fund's investment adviser.

Filing Dates: The application was filed on January 3, 2007, and amended on March 13, 2007.

Applicant's Address: 950 Tower Lane, Suite 1900, Foster City, CA 94404.

Smith Barney Fund of Stripped Zero U.S. Treasury Securities [File No. 811-4324]

Smith Barney Fund of Stripped Zero Coupon U.S. Treasury Securities [File No. 811-4583]

Summary: Each applicant, a unit investment trust, seeks an order declaring that it has ceased to be an investment company. On November 16, 2004, each applicant made its final liquidating distribution, based on net asset value. Applicants incurred no expenses in connection with the liquidations.

Filing Dates: The applications were filed on February 27, 2007, and amended on March 19, 2007.

Applicants' Address: 388 Greenwich St., New York, NY 10013.

Liberty-Stein Roe Advisor Trust [File No. 811-7955]

Summary: Applicant seeks an order declaring that it has ceased to be an investment company. On July 27, 2002, applicant transferred its assets to Stein Roe Young Investor Fund, a series of Liberty-Stein-Roe Funds Investment Trust, based on net asset value. Expenses of $274,163 incurred in connection with the reorganization were paid by SteinRoe & Farnham Incorporated, applicant's investment adviser.

Filing Date: The application was filed on February 20, 2007.

Applicant's Address: One Financial Center, Boston, MA 02111.

For the Commission, by the Division of Investment Management, pursuant to delegated authority.
Florence E. Harmon,
Deputy Secretary.

[FR Doc. E7-6373 Filed 4-4-07; 8:45 am]

BILLING CODE 8010-01-P